SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 20, 2009.

ADDRESSES: Send all comments regarding whether this information collection is necessary for the proper performance of the function of the agency, whether the burden estimates are accurate, and if there are ways to minimize the estimated burden and enhance the quality of the collection, to Jacqueline West, Assistant Administrator, Office of 8(a) Review, Small Business Administration, 409 3rd Street, SW., 8th floor, Wash., DC 20416.

FOR FURTHER INFORMATION CONTACT: Jacqueline West, Assistant Administrator, Office of 8(a) Program Review, 202-205-7521, jacqueline.west@sba.gov, Curtis B. Rich, Management Analyst, 202-205-7030, curtis.rich@sba.gov.

SUPPLEMENTARY INFORMATION: The information is necessary to determine whether HubZone eligibility requirements are met and if the firm is a small business; has a principal office in a HubZone; 35% of it's employees reside in a HubZone; and at least 51% owned by U.S. citizens.

Title: “HubZone Program Electronic Application; Recertification and Program Examination.”

Description of Respondents: Small Businesses Seeking Certification.

Form Number: 2103.

Annual Responses: 6,375.

Annual Burden: 10,725.

Jacqueline White,
Chief, Administrative Information Branch.

[FR Doc. E8-27377 Filed 11-18-08; 8:45 am]

BILLING CODE 8025-01-P